DEPARTMENT OF LABOR

Employment and Training Administration

[TA-W-41,573]

J. R. Simplot Company, Don Plant, Pocatello, Idaho; Notice of Termination of Investigation

Pursuant to section 221 of the Trade Act of 1974, an investigation was initiated on May 20, 2002 in response to a worker petition which was filed by Paper, Allied-Industrial, Chemical and Energy Workers International Union, Local 8-632 on behalf of workers at J. R. Simplot Company, Don Plant, Pocatello, Idaho.

The petitioner has requested that the petition be withdrawn. Consequently, further investigation in this case would serve no purpose, and the investigation has been terminated.

Signed in Washington, DC, this 31st day of May, 2002.
Linda G. Poole,
Certifying Officer, Division of Trade Adjustment Assistance.

[FR Doc. 02-15442 Filed 6-18-02; 8:45 am]

BILLING CODE 4510-30-P